DEPARTMENT OF ENERGY

Federal Energy Regulatory Commission

[Docket No. CP25-379-000]

Texas Eastern Transmission, LP; Notice of Schedule for the Preparation of an Environmental Assessment for the Longwall Mining Panel M1 Project

On April 30, 2025, Texas Eastern Transmission, LP (Texas Eastern) filed an application in Docket No. CP25-379-000 requesting a Certificate of Public Convenience and Necessity pursuant to Section 7(c) of the Natural Gas Act to excavate, elevate, replace, reroute, construct, and operate certain natural gas pipeline facilities. The proposed project is known as the Longwall Mining Panel M1 Project (Project) and would allow for the safe and efficient operation of Texas Eastern's natural gas transportation system in Greene County, Pennsylvania during sub-surface longwall mining activities.

On May 14, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EA-019-20-000-1748513599.

Schedule for Environmental Review

Issuance of EA October 10, 2025

90-day Federal Authorization Decision Deadline ² January 8, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Texas Eastern proposes to excavate, elevate, replace, and reroute segments of its existing pipelines ranging in length between approximately 4,000 feet and 8,500 feet in Greene County, Richhill and Center Townships, Pennsylvania. Texas Eastern would also abandon by removal two segments of non-operational pipeline. Upon completion of the sub-surface mining activities, Texas Eastern would return two of the four pipelines to their original locations and easements. One pipeline would be partially rerouted into a new easement, and another would be rerouted into the existing easement of an abandoned pipeline just north of its original location. Texas Eastern anticipates these activities would occur between 2026 and 2028.

Background

On May 30, 2025, the Commission issued a Notice of Scoping Period Requesting Comments on Environmental Issues for the Proposed Longwall Mining Panel M1 Project and Notice of Public Scoping Session (Notice of Scoping). The Notice of Scoping was sent to affected landowners; federal, state, and local government agencies; elected officials; environmental and public interest groups; Native American tribes; other interested parties; and local libraries and newspapers. In response to the Notice of Scoping, the Commission received comments from the United States Environmental Protection Agency. The primary issue raised by the commenter is to address the environmental effects that potential subsidence, from longwall mining, would have on nearby water resources. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-379), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 2, 2025.
Debbie-Anne A. Reese,
Secretary.

[FR Doc. 2025-12655 Filed 7-7-25; 8:45 am]

BILLING CODE 6717-01-P